DEPARTMENT OF JUSTICE

[OMB Number 1121-0149]

Agency Information Collection Activities; Proposed eCollection eComments Requested; Reinstatement, With Change, of a Previously Approved Collection for Which Approval Has Expired: 2013 National Survey of Prosecutors (NSP-13)

AGENCY: Department of Justice, Bureau of Justice Statistics

ACTION: 60-day notice.

SUMMARY: The Department of Justice (DOJ), Office of Justice Programs, Bureau of Justice Statistics, will be submitting the following information collection request to the Office of Management and Budget (OMB) for review and approval in accordance with the Paperwork Reduction Act of 1995. The proposed information collection is published to obtain comments from the public and affected agencies.

DATES: Comments are encouraged and will be accepted for 60 days until May 19, 2014.

FOR FURTHER INFORMATION CONTACT: If you have additional comments especially on the estimated public burden or associated response time, suggestions, or need a copy of the proposed information collection instrument with instructions or additional information, please contact Steven W. Perry, Statistician, Bureau of Justice Statistics, 810 Seventh Street NW., Washington, DC 20531 (phone: 202-307-0777).

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of this information collection:

1. Type of Information Collection: Reinstatement of the National Survey of Prosecutors, with changes, a previously approved collection for which approval has expired.

2. The Title of the Form/Collection: 2013 National Survey of Prosecutors (census).

3. The agency form number, if any, and the applicable component of the Department sponsoring the collection: The form number is NSP-13. The applicable component within the Department of Justice is the Bureau of Justice Statistics, in the Office of Justice Programs.

4. Affected public who will be asked or required to respond, as well as a brief abstract: This information collection is a census of local prosecutor offices that handles felony cases in State courts. The Bureau of Justice Statistics (BJS) proposes to implement the next iteration of the National Survey of Prosecutors (NSP-13). Local prosecutors occupy a central and perhaps the most influential role in the criminal justice system seeking to ensure justice is served. Prosecutors represents the local government in deciding who is charged with a crime, the type and number of charges filed, whether or not to offer a plea, and providing sentencing recommendations for those convicted of crimes. Since 1990, the NSP has been the only recurring national statistical program that captures these administrative and operational characteristics of the prosecutorial function in the State criminal justice system. A goal of the NSP-13 is to obtain national statistics on local prosecutor office staffing and services, budgets, caseloads and convictions, use of DNA evidence, and disposition reporting to repositories. In addition, this study will collect data on the prevalence of human trafficking, cyber-crimes, identity theft, participation in specialty courts and diversion programs, youths in criminal courts and services provided on tribal lands by local prosecutor offices. These data will allow BJS to conduct trend analyses and comparisons with historical data. The information gathered in the NSP-13 will cover 2013.

5. An estimate of the total number of respondents and the amount of time estimated for an average respondent to respond: An estimated 2,330 persecutor offices will take part in the National Survey of Prosecutors 2013. Based on pilot testing, as average of 60 minutes per respondent is needed to complete form NSP-13. The estimated range of burden for respondents is expected to be between 30 minutes to 1.5 hours for completion. The following factors were considered when creating the burden estimate: The estimated total number of prosecutor offices, the ability of offices to access or gather the data, and the case management systems capabilities generally found within the local prosecutor office. BJS estimates that nearly all of the approximately 2330 respondents will fully complete the questionnaire.

6. An estimate of the total public burden (in hours) associated with the collection: The estimated public burden associated with this collection is 2330 hours. It is estimated that respondents will take 1 hour to complete a questionnaire. The burden hours for collecting respondent data sum to 2330 hours (2330 respondents × 1 hours = 2330 hours).

If additional information is required contact: Jerri Murray, Department Clearance Officer, United States Department of Justice, Justice Management Division, Policy and Planning Staff, Two Constitution Square, 145 N Street NE., 3W-1407B, Washington, DC 20530.

Dated: March 13, 2014.
Jerri Murray,
Department Clearance Officer for PRA, U.S. Department of Justice.

[FR Doc. 2014-05910 Filed 3-17-14; 8:45 am]

BILLING CODE 4410-18-P